SMALL BUSINESS ADMINISTRATION

[Declaration of Disaster #P004]

State of South Carolina

As a result of the President's major disaster declaration for Public Assistance on January 8, 2003 the U.S. Small Business Administration is activating its disaster loan program only for private non-profit businesses that provide essential services of a governmental nature. I find that Cherokee, Greenville, Laurens, Spartanburg, Union, and York Counties in the State of South Carolina constitute a disaster area due to damages caused by a severe ice storm occurring from December 4, 2002, and continuing through December 6, 2002. Applications for loans for physical damage as a result of this disaster may be filed until the close of business on March 10, 2003 at the address listed below or other locally announced locations: U.S. Small Business Administration, Disaster Area 2 Office, One Baltimore Place, Suite 300, Atlanta, GA 30308.

The interest rates are:

| Percent
For Physical Damage:
Non-Profit Organizations Without Credit Available Elsewhere | 3.324
Non-Profit Organizations With Credit Available Elsewhere | 5.500

The number assigned to this disaster for physical damage is P00411.

(Catalog of Federal Domestic Assistance Program Nos. 59008)
Dated: January 13, 2003.
Herbert L. Mitchell,
Associate Administrator for Disaster Assistance.

[FR Doc. 03-1231 Filed 1-17-03; 8:45 am]

BILLING CODE 8025-01-P